DEPARTMENT OF TRANSPORTATION

Pipeline and Hazardous Materials Safety Administration

Office of Hazardous Materials Safety; Notice of Delays in Processing of Special Permits Applications

AGENCY: Pipeline and Hazardous Materials Safety Administration (PHMSA), DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Delmer F. Billings, Director, Office of Hazardous Materials Special Permits and Approvals, Pipeline and Hazardous Materials Safety Administration, U.S. Department of Transportation, East Building, PHH-30, 1200 New Jersey Avenue, Southeast, Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

PM—Party to application with modification request.

Issued in Washington, DC, on July 16, 2007.
Delmer F. Billings,
Director, Office of Hazardous Materials, Special Permits and Approvals.

Modification to Special Permits
Application number | Applicant | Reason for delay | Estimated date of completion
10481-M | M-1 Engineering Limited Bradfrod, West Yorkshire | 4 | 09-30-2007
114167-M | Trinityrail Dallas, TX | 1,3,4 | 09-30-2007

New Special Permit Applications
Application number | Applicant | Reason for delay | Estimated date of completion
14385-N | Kansas City Southern Railway Company Kansas City, MO | 4 | 09-30-2007
14442-N | Trinityrail Dallas, TX | 4 | 09-30-2007
14468-N | REC Advanced Silicon Materials LLC Butte, MT | 4 | 09-30-2007
14470-N | Marsulex, Inc. Springfield, OR | 4 | 08-31-2007
14469-N | Space Systems/Loral Palo Alto, CA | 4 | 07-31-2007
14457-N | Ambrol Alfa Metalomecanica SA Portugal | 4 | 09-30-2007
14436-N | BNSF Railway Company Topeka, KS | 4 | 09-30-2007
14402-N | Lincoln Composites Lincoln, NE | 1 | 12-31-2007

[FR Doc. 07-3543 Filed 7-19-07; 8:45 am]

BILLING CODE 4910-60-M